DEPARTMENT OF THE INTERIOR

Bureau of Land Management

[NV-055-5853-EU]

Notice of Realty Action: Competitive Sale of Public Lands in Clark County, Nevada; Termination of Recreation and Public Purposes Classification and Segregation; Withdrawal of the Formerly Classified Lands by the Southern Nevada Public Land Management Act

AGENCY: Bureau of Land Management, Department of the Interior.

ACTION: Notice of realty action.

SUMMARY: The Bureau of Land Management (BLM) proposes to sell by public auction 72 parcels of Federal public land, aggregating approximately 705.235 acres, more or less, in the Las Vegas Valley, Nevada. The sale will be under the authority of the Southern Nevada Public Land Management Act of 1998 (112 Stat. 2343), as amended by Title IV of the Clark County Conservation of Public Land and Natural Resources Act of 2002 (116 Stat. 1994) (SNPLMA). The SNPLMA sale will be subject to the applicable provisions of Sections 203 and 209 of the Federal Land Policy and Management Act of 1976 (FLPMA) (43 U.S.C. 1713 and 1719), and BLM land sale and mineral conveyance regulations at 43 CFR parts 2710 and 2720. The sale will be conducted in Las Vegas, Nevada, on August 2, 2006, using competitive bidding procedures under the regulations, at not less than the appraised fair market value (FMV) of each parcel.

DATES: Comments regarding the proposed SNPLMA sale of the 705.235 acres in the Las Vegas Valley must be received by BLM on or before June 5, 2006. Comments regarding the draft environmental assessment (EA) must be received by the BLM on or before June 5, 2006.

Sealed bids must be received not later than 4:30 p.m. PDT July 28, 2006 at the address of the Las Vegas Field Office listed below. The sale by auction will begin at 10 a.m., PDT, August 2, 2006. Registration for oral bidding for those who have not pre-registered will begin at 8 a.m., PDT, August 2, 2006 and will end at 10 a.m., PDT. Other deadline dates for the receipt of payments, and arranging for certain payments to be made by electronic transfer, are specified in the proposed terms and conditions of sale, as stated herein.

ADDRESSES: Comments regarding the proposed sale may be submitted to BLM at the following address: Field Manager, Las Vegas Field Office, Bureau of Land Management, 4701 N. Torrey Pines Drive, Las Vegas, Nevada 89130.

More detailed information regarding the proposed sale, including maps and appraisals, may be reviewed during normal business hours (7:30 a.m. to 4:30 p.m.) at the BLM Las Vegas Field Office (LVFO).

The address for oral bidding registration, and the location of the public auction, is: Cashman Center, 850 Las Vegas Boulevard North, Las Vegas, NV 89101.

The auction will take place inside the Cashman Theater located in the southwest corner of the Cashman Center with entrance to the Theater between Parking Lots “B” and “C”. Registration will take place in the Theater Lobby. Cashman Center charges a $3 per vehicle parking fee. Parking Passes will be provided to those individuals who pre-register and those who pick-up a Sale Packet at the LVFO prior to the day of the sale. Passes will accompany the sale packet which is sent to everyone on the sale mailing list. Give the Pass to the attendant when you enter the parking area. If you don't have a Pass you will be required to pay the fee. There will be no exceptions.

Directions to the Cashman Center from Boulder City, Henderson, or the Southeast Area of Las Vegas: Take U.S. 95 North. Exit on Las Vegas Blvd. North. Turn right on Washington Ave. Turn right on Washington to Cashman Center (850 Las Vegas Blvd. North).

Directions to the Cashman Center from Reno or the Northwest Area of Las Vegas: Take U.S. 95 South. Exit on Las Vegas Blvd. North (Las Vegas Blvd./Cashman Center). Turn left to Cashman Center (850 Las Vegas Blvd. North).

FOR FURTHER INFORMATION CONTACT: You may contact Manuela Johnson at (702) 515-5224 or by e-mail at m15johns@nv.blm.gov. You may also call (702) 515-5000 and ask to have your call directed to a member of the Sales Team.

SUPPLEMENTARY INFORMATION: The following described lands in the Las Vegas Valley, Nevada, are proposed for sale and have been authorized and designated for disposal under SNPLMA. The lands will be put up for sale competitively on August 2, 2006, at an oral auction for not less than the appraised fair market value (FMV) of each parcel. These SNPLMA parcels described below will be auctioned under the terms and conditions of this Notice of Realty Action (NORA).

Mount Diablo Meridian, Nevada

T. 19 S., R., 59 E.

Sec. 01, Lot 37;

Sec. 02, E½NW¼SW¼SW¼, NW¼NE¼SW¼SW¼SW¼;

Sec. 03, E½NW¼SW¼SW¼, W½SE¼SW¼SW¼, W½NW¼SE¼SW¼, E½SW¼SE¼SW¼, E½SW¼NE¼SE¼, E½SE¼NE¼SE¼, N½SE¼SE¼, N½SW¼SE¼SE¼, SW¼SW¼SE¼SE¼, N½SE¼SW¼SE¼SE¼, SW¼SE¼SW¼SE¼SE¼, N½SE¼SE¼SE¼, N½SW¼SE¼SE¼SE¼;

Sec. 10, NW¼NW¼NW¼NE¼NE¼;

Sec. 25, SW¼NE¼NE¼, E½NE¼NW¼NE¼, E½SE¼NW¼NE¼, E½NE¼SW¼NE¼, E½SW¼SE¼NW¼, NE¼NE¼SW¼, NE¼SW¼SW¼, NE¼SE¼SW¼, E½SE¼SE¼SW¼, NW¼NW¼SE¼, E½SW¼NW¼SE¼, SW¼SW¼SE¼, W½SE¼SW¼SE¼.

T. 19 S., R., 60 E.

Sec. 30, Lots 22, 25, 26 and 30, E½NW¼SE¼NE¼, E¼SE¼NE¼, E½NW¼NE¼SW¼, W½SE¼NE¼SW¼, NE¼SE¼SW¼,W½NW¼SE¼SW¼, W½SW¼SE¼SW¼, E½SW¼NW¼SE¼, W½SW¼SW¼SE¼, E½NW¼SE¼SE¼;

Sec. 31, Lots 5-9, N½NE¼NE¼, SW¼NE¼NE¼, W½SE¼NE¼NE¼, SE¼NW¼NE¼, E½NE¼SW¼NE¼, SW¼SW¼NE¼, E½SE¼SW¼NE¼, W½NE¼SE¼NE¼, W½NW¼SE¼NE¼, W½NE¼NW¼NW¼, E½SW¼NE¼SW¼, E½SE¼NE¼SW¼, NW¼NE¼SE¼, W½NE¼NW¼SE¼, E½NW¼NW¼SE¼.

T. 20 S., R. 60 E.

Sec. 06, SE¼NE¼SW¼, W½NE¼SE¼SW¼, SE¼NW¼SE¼SW¼,W½NW¼NW¼SE¼, W½SW¼NW¼SE¼;

Sec. 28, NE¼SW¼SE¼, E½NW¼SW¼SE¼.

T. 22 S., R. 60 E.

Sec. 13, SW¼NW¼NE¼NE¼, SE¼NE¼SE¼NE¼, NE¼SE¼SE¼NE¼, SW¼SE¼SW¼NW¼;

Sec. 14, NW¼SW¼NW¼SW¼;

Sec. 16, NW¼NE¼SE¼NE¼, SW¼NE¼SE¼NE¼, NE¼SE¼SE¼NE¼, SE¼SE¼SE¼NE¼;

Sec. 19, Lots 22-26, 32, 38, 40-44, 46, 48, 49, 51-54, 56-58, S½NW¼NE¼SE¼NW¼, SW¼NE¼SE¼NW¼, N½SW¼SE¼NW¼,SW¼SW¼SE¼NW¼, W½SE¼SE¼NW¼, E½NE¼NE¼SW¼, NW¼NE¼NE¼SE¼,W½NW¼NE¼SE¼, SE¼NW¼NE¼SE¼, N½SW¼NE¼SE¼, NE¼NE¼NW¼SE¼, W½NE¼NW¼SE¼, NE¼NW¼NW¼SE¼, SW¼NW¼NW¼SE¼, SE¼NE¼SW¼SE¼, SE¼NW¼SW¼SE¼, NE¼SE¼SW¼SE¼, S½SW¼SE¼SE¼, N½SE¼SE¼SE¼, SE¼SE¼SE¼SE¼;

Sec. 21, NW¼NE¼SW¼NE¼, N½SW¼NW¼NW¼;

Sec. 23, NW¼NE¼NW¼NE¼, NE¼NW¼NW¼NE¼, NE¼NE¼NE¼NW¼, NE¼NW¼NE¼NW¼;

Sec. 30, SE¼SW¼NE¼NE¼, SW¼SE¼NE¼NE¼, SW¼NE¼NW¼NE¼, S½NW¼NW¼NE¼, SW¼NW¼NE¼, W½SE¼NW¼NE¼, N½SW¼NE¼, SW¼SW¼NE¼, N½SE¼SW¼NE¼, SW¼SE¼SW¼NE¼, NE¼NE¼SE¼NE¼, W½NE¼SE¼NE¼, NW¼SE¼NE¼, S½SE¼NE¼.

T. 22 S., R. 61 E.

Sec. 10, Lot 15;

Sec. 33, SW¼NW¼SW¼NE¼, NE¼NE¼NW¼SE¼, SW¼NE¼NW¼SE¼, NE¼NW¼NW¼SE¼, SW¼NW¼NW¼SE¼, SE¼NW¼NW¼SE¼, NE¼SW¼NW¼SE¼.

Consisting of 72 parcels containing 705.235 acres, more or less.

In addition to the lands described herein, other parcels that have been previously noticed for sale, but did not sell, may be offered at this sale.

Minerals of no known locatable value will be conveyed with the following eleven parcels: BLM case file serial numbers N-79508, N-80683 through N-80685, N-80687 through N-80691, N-80715, N-80730. These case files are located at the BLM Las Vegas Field Office. An offer to purchase these listed parcels will constitute an application for conveyance of the locatable mineral interests. In conjunction with the final payment, the applicant will be required to pay a $50.00 non-refundable filing fee for processing the conveyance of the locatable mineral interests which will be sold simultaneously with the surface interests.

The remainder of the parcels offered will have all mineral interests reserved to the United States; therefore, no $50 filing fee will be required as no mineral interests will be conveyed. The legal description of the parcels associated with these BLM Serial Numbers is available at the BLM Las Vegas Field Office, or online at http://propertydisposal.gsa.gov.

Terms and Conditions of Sale

The terms and conditions applicable to the SNPLMA sale parcels are as follows:

1. For the parcels under case files N-79508, N-80683 through N-80685, N-80687 through N-80691, N-80715 and N-80730 all discretionary leaseable and saleable mineral deposits on the lands in Clark County are reserved to the United States; but, permittees, licensees, and lessees of the United States retain the right to prospect for, mine, and remove such minerals owned by the United States under applicable law and any regulations that the Secretary of the Interior may prescribe, together with all necessary access and exit rights. As stated above, all other offered parcels will have all mineral interest reserved to the United States.

2. A right-of-way is reserved for ditches and canals constructed by authority of the United States under the Act of August 30, 1890 (43 U.S.C. 945).

3. All parcels are subject to valid existing rights. Parcels may also be subject to applications received prior to publication of this Notice if processing the application would have no adverse affect on the marketability or the federally approved Fair Market Value (FMV) of a parcel. Encumbrances of record, appearing in the BLM public files for the parcels proposed for sale, are available for review during business hours, 7:30 a.m. PDT to 4:30 p.m. PDT, Monday through Friday, at the BLM LVFO.

4. All parcels are subject to reservations for roads, public utilities and flood control purposes in accordance with the local governing entities' Transportation Plans.

5. No warranty of any kind, express or implied, is given by the United States as to title, whether or to what extent the land may be developed, physical condition, future uses, or any other circumstance or condition. The conveyance of any parcel will not be on a contingency basis. However, to the extent required by law, all parcels are subject to the requirements of section 120(h) of the Comprehensive Environmental Response Compensation and Liability Act, as amended (CERCLA) (42 U.S.C. 9620(h)).

6. All purchasers/patentees, by accepting a patent, covenant and agree to indemnify, defend, and hold the United States harmless from any costs, damages, claims, causes of action, penalties, fines, liabilities, and judgments of any kind or nature arising from the past, present, and future acts or omissions of the patentees or their employees, agents, contractors, or lessees, or any third-party, arising out of or in connection with the patentees' use, occupancy, or operations on the patented real property. This indemnification and hold harmless agreement includes, but is not limited to, acts and omissions of the patentees and their employees, agents, contractors, or lessees, or any third-party, arising out of or in connection with the use and/or occupancy of the patented real property which has already resulted or does hereafter result in: (1) Violations of Federal, state, and local laws and regulations that are now or may in the future become, applicable to the real property; (2) Judgments, claims or demands of any kind assessed against the United States; (3) Costs, expenses, or damages of any kind incurred by the United States; (4) Releases or threatened releases of solid or hazardous waste(s) and/or hazardous substances(s), as defined by Federal or state environmental laws, off, on, into or under land, property and other interests of the United States; (5) Activities by which solid waste or hazardous substances or waste, as defined by Federal and state environmental laws are generated, released, stored, used or otherwise disposed of on the patented real property, and any cleanup response, remedial action or other actions related in any manner to said solid or hazardous substances or wastes; or (6) Natural resource damages as defined by Federal and state law. This covenant shall be construed as running with the parcels of land patented or otherwise conveyed by the United States, and may be enforced by the United States in a court of competent jurisdiction.

7. Unless otherwise stated herein, maps delineating the individual proposed sale parcels and current appraisals for each parcel are available for public review at the BLM LVFO.

8. In accordance with policy and procedures adopted by the Clark County Board of Commissioners which addresses sale parcels in areas designated as “Major Development Project”, parcels N-79534, N-79544, N-79551, N-79552, N-79549, N-79550, N-79545, N-79546, N-79548 and N-79579 totaling 205.17 acres more or less will aggregated and offered as one single parcel. The starting bid amount for these parcels will be the total of the appraised values for all 10 parcels.

9. Sealed bids may be presented for all parcels. Sealed bids must be received at the BLM LVFO, no later than 4:30 p.m., PST, July 28, 2006. Sealed bid envelopes must be marked on the lower front left corner with the BLM Serial Number for the parcel and the sale date. Bids must be for not less than the federally approved FMV and a separate bid must be submitted for each parcel.

10. Each sealed bid shall be accompanied by a deposit in the form of a certified check, money order, bank draft, or cashier's check made payable in U.S. dollars to the order of the Bureau of Land Management, for not less than 10 percent or more than 30 percent of the amount bid. The highest qualified sealed bid for each parcel will become the starting bid at the oral auction. If no sealed bids are received, oral bidding will begin at the FMV, as determined by the authorized officer. All sealed bids will be opened and recorded at 12 noon PST on July 31, 2006 at the BLM office on 4701 N. Torrey Pines Drive in Las Vegas. The high sealed bid amount will be posted on the auction order list and will be the starting bid amount at the oral auction.

11. All parcels will be offered for competitive sale by oral auction beginning at 10 a.m., PDT, August 2, 2006, at Cashman Theater located inside Cashman Center at 850 Las Vegas Boulevard North, Las Vegas, NV. Interested parties who will not be bidding are not required to register and may proceed directly to the Cashman Theater. If you are at the auction to conduct business with the high bidders or are there to observe the process, should seating become limited, you may be asked to relocate to the balcony or another area in order to provide seating in the theater for all bidders before the auction begins. We will try to provide an audio/visual transmission outside the theater for your convenience.

12. All oral bidders are required to register. Registration for oral bidding will begin at 8 a.m. PDT on the day of the sale and will end at 10 a.m. PDT. You are encouraged to pre-register by mail or fax by completing the form located in the Sale Packet. The form is also available at the BLM LVFO.

13. Prior to receiving a bidder number on the day of the sale, all registered bidders must submit a certified check, bank draft, or cashier's check in the amount of $10,000. The check must be made payable in U.S. dollars to the order of the Bureau of Land Management. On the day of the sale, pre-registered bidders may go to the Express Registration Desk, present their Photo Identification, the required $10,000 check, and receive a bidder number. All other bidders must go to the standard Registration Line where additional information will be requested along with your Photo Identification and the required $10,000 check. Upon completion of registration you will be given a bidder number. If you are a successful bidder, the $10,000 will be applied to your required deposit.

14. If you purchase one or more parcels and default on any single parcel, the default may be against all of your parcels. BLM may retain your $10,000 and the sale of all parcels to you may be cancelled. Following the auction, checks will be returned to the unsuccessful bidders upon presentation of their Photo Identification at the designated area.

15. The highest qualifying bid for any parcel will be declared the high bid. The apparent high bidder must submit a deposit of not less than 20 percent of the successful bid by 3 p.m. PDT on the day of the sale in the form of cash, personal check, bank draft, cashiers check, money order or any combination thereof, made payable in U.S. dollars to the Bureau of Land Management. Funds must be delivered no later than 3 p.m. PDT the day of the sale to the BLM Collection Officers at the Cashman Theater. Funds will NOT be accepted at the LVFO.

16. Oral bids will be considered only if received at the place of sale and made at least for the FMV as determined by the BLM authorized officer.

17. The remainder of the full bid price for each parcel must be paid within 180 calendar days of the competitive sale date in the form of a certified check, money order, bank draft, or cashier's check made payable in U.S. dollars to the Bureau of Land Management. Personal checks will not be accepted. Arrangements for Electronic Fund Transfer (EFT) to BLM for the balance which is due on or before February 1, 2006, should be made a minimum of two weeks prior to the date you wish to make payment. Failure to pay the full price within the 180 days will disqualify the apparent high bidder and cause the entire bid deposit to be forfeited to the BLM.

18. All sales are made in accordance with and subject to the governing provisions of law and applicable regulations. In general, the BLM may accept or reject any or all offers, or withdraw any parcel of land or interest therein from sale, if, in the opinion of the BLM authorized officer, consummation of the sale would not be fully consistent with FLPMA or other applicable laws or is determined not to be in the public interest.

19. Federal law requires bidders to be U.S. citizens 18 years of age or older; a corporation subject to the laws of any State or of the United States; a State, State instrumentality or political subdivision authorized to hold property or an entity legally capable of conveying lands or interests therein under the laws of the State of Nevada. Certification of qualification, including citizenship or corporation or partnership, must accompany the bid deposit and is subject to verification by the BLM prior to consummation of the sale.

Additional Information

If not sold, any parcel described above in this Notice may be identified for sale at a later date without further legal notice. Unsold parcels may be offered for sale in a future online Internet auction. Internet auction procedures will be available at http://www.auctionrp.com. If unsold on the Internet, parcels may be put up for sale at future oral and online Internet auctions without additional legal notice. Upon publication of this Notice and until the completion of the sale, the BLM is no longer accepting land use applications affecting any parcel identified for sale, including parcels that have been published in a previous NORA. However, land use applications may be considered after completion of the sale for parcels that are not sold through oral or online Internet auction procedures provided the authorization will not adversely affect the marketability or value of the parcel.

In order to determine the value, through appraisal, of the parcels of land proposed to be sold, certain extraordinary assumptions may have been made of the attributes and limitations of the lands and potential effects of local regulations and policies on potential future land uses. Through publication of this Notice, the Bureau of Land Management gives notice that these assumptions may not be endorsed or approved by units of local government. It is the buyer's responsibility to be aware of all applicable Federal, state, and local government laws, regulations and policies that may affect the subject lands, including any required dedication of lands for public uses. It is also the buyer's responsibility to be aware of existing or projected use of nearby properties. When conveyed out of Federal ownership, the lands will be subject to any applicable laws, regulations, and policies of the applicable local government for proposed future uses. It will be the responsibility of the purchaser to be aware of those laws regulations, and policies, and to seek any required local approvals pursuant to them. Buyers should also make themselves aware of any Federal or state law or regulations that may impact the future use of the property. Any land lacking access from a public road or highway will be conveyed as such, and future access acquisition will be the responsibility of the buyer.

Environmental Assessment. The SNPLMA parcels proposed for sale were analyzed in an Environmental Impact Statement (EIS), entitled “Las Vegas Land Disposal Boundary EIS”, approved December 23, 2004. This EIS is available for public review at the BLM LVFO. An Environmental Assessment (EA) for this sale, which tiers to the EIS, has also been prepared for public review and comment at the BLM LVFO. BLM will be accepting public comment on the EA during the time for comment on the proposed sale up to June 5, 2006.

Other information concerning the sale, including the appraisals, reservations, sale procedures and conditions, CERCLA and other environmental documents will be available for review at the BLM LVFO, or by calling (702) 515-5000 and asking to speak to a member of the Sales Team. Most of this information also will be available on the Internet at http://propertydisposal.gsa.gov.

Public Comments: The general public and interested parties may submit comments regarding the proposed sale to the Field Manager, BLM LVFO, up to 45 days after publication of this Notice in the Federal Register. Any adverse comments regarding the proposed sale will be reviewed by the Nevada BLM State Director, or other authorized official of the Department of the Interior who may sustain, vacate, or modify this realty action in whole or in part, if applicable. Any comments received during this process, as well as the name and address of the commenter, will be available to the public in the administrative record and/or pursuant to a Freedom of Information Act request. You may indicate for the record that you do not wish to have your name and/or address made available to the public. Any determination by the Bureau of Land Management to release or withhold the names and/or addresses of those who comment will be made on a case-by-case basis. A request from a commenter to have their name and/or address withheld from public release will be honored to the extent permissible by law.

(Authority: 43 C.F.R. 2711.1-2(a) and (c))

Termination of Portions of R&PP Classification—SNPLMA Withdrawal

A portion of the following lease granted under the Recreation and Public Purposes (R&PP) Act, 43 U.S.C. 869 et. seq.) has been relinquished: N-63336 (68FR47929). The Notice officially terminates the R&PP classification and segregation of a portion of that parcel. A portion of R&PP application, N-78724 has been withdrawn by the applicant. This notice serves to inform you that land previously leased and previously requested for R&PP purposes is no longer required and is now part of this sale. It does not serve as an opening order because those parcels are within the disposal boundary set by Congress in SNPLMA. Pursuant to section 4(c) of SNPLMA, these parcels are withdrawn, subject to valid existing rights, from entry and appropriation under the public land laws, location and entry under the mining laws and from operation under the mineral leasing and geothermal leasing laws, until such time as the Secretary of the Interior terminates the withdrawal or the lands are conveyed.

Dated: March 15, 2006.
Juan Palma,
Field Manager.

[FR Doc. 06-3773 Filed 4-17-06; 11:42 am]

BILLING CODE 4310-HC-P